DEPARTMENT OF COMMERCE

Foreign-Trade Zones Board

[B-23-2014]

Proposed Foreign-Trade Zone—Cameron Parish, Louisiana Under Alternative Site Framework

An application has been submitted to the Foreign-Trade Zones (FTZ) Board by the West Cameron Port Commission to establish a foreign-trade zone within Cameron Parish, Louisiana, adjacent to the Lake Charles CBP port of entry, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on March 12, 2014. The applicant is authorized to make the proposal under Louisiana Revised Statues, Title 51, Sections 61-62.

The proposed zone would be the second zone for the Lake Charles Customs and Border Protection (CBP) port of entry. The existing zone is FTZ 87, Lake Charles (Grantee: Lake Charles Harbor & Terminal District, Board Order 217, July 22, 1983).

The applicant's proposed service area under the ASF would be Wards 3, 4, 5 and 6 of Cameron Parish. If approved, the applicant would be able to serve sites throughout the service area based on companies' needs for FTZ designation. The proposed service area is adjacent to the Lake Charles CBP port of entry.

The proposed zone would include one initial “usage-driven” site: Proposed Site 1 (1,049 acres)—at the Cheniere Sabine Pass LNG Terminal, 9243 Gulf Beach Highway, Cameron.

The application indicates a need for zone services in Cameron Parish, Louisiana. Several firms have indicated an interest in using zone procedures for warehousing/distribution activities for a variety of products. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is May 16, 2014. Rebuttal comments in response to material submitted during the foregoing period may be submitted during the subsequent 15-day period to June 2, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: March 12, 2014.
Andrew McGilvray,
Executive Secretary.

[FR Doc. 2014-05820 Filed 3-14-14; 8:45 am]

BILLING CODE 3510-DS-P